COMMISSION ON CIVIL RIGHTS

Sunshine Act Notice

AGENCY: United States Commission on Civil Rights.

ACTION: Notice of meeting and briefing.

Date and Time: Monday, December 3, 2007; 9 a.m. Meeting. 10 a.m. Briefing.

Place: U.S. Commission on Civil Rights, 624 Ninth Street, NW., Rm. 540, Washington, DC 20425.

Meeting Agenda

I. Approval of Agenda.

II. Approval of Minutes of October 12, Meeting.

III. Program Planning.

• Racial Preferences and the California Department of Transportation.

IV. Adjourn Meeting.

Briefing Agenda

Topic: Minorities in Special Education.

I. Introductory Remarks by Chairman.

II. Speakers' Presentations.

III. Questions by Commissioners and Staff Director.

IV. Adjourn Briefing.

Contact Person for Further Information: Robert Lerner, Press and Communications, (202) 376-8582.

Dated: November 20, 2007.
David Blackwood,
General Counsel.

[FR Doc. 07-5833 Filed 11-20-07; 3:14 pm]

BILLING CODE 6335-01-P